DEPARTMENT OF ENERGY

Federal Energy Regulatory Commission

Combined Notice of Filings #1

Take notice that the Commission received the following electric rate filings:

Docket Numbers: ER10-1276-016; ER10-1287-015; ER10-1292-014; ER10-1303-014; ER10-1319-016; ER10-1353-016; ER18-1150-010; ER18-1183-007; ER18-1184-007; ER22-2187-003; ER22-2188-004; ER23-1411-001.

Applicants: Newport Solar LLC, Northwest Ohio IA, LLC, Northwest Ohio Solar, LLC, Delta Solar Power II, LLC, Delta Solar Power I, LLC, Trishe Wind Ohio, LLC, Dearborn Industrial Generation, L.L.C., CMS Generation Michigan Power, LLC, Genesee Power Station Limited Partnership, CMS Energy Resource Management Company, Grayling Generation Station Limited Partnership, Consumers Energy Company.

Description: Notice of Change in Status of Consumers Energy Company, et al.

Filed Date: 7/31/23.

Accession Number: 20230731-5259.

Comment Date: 5 p.m. ET 8/21/23.

Docket Numbers: ER11-4589-003.

Applicants: EcoGrove Wind, LLC.

Description: Notice of Change in Status of EcoGrove Wind, LLC.

Filed Date: 7/28/23.

Accession Number: 20230728-5240.

Comment Date: 5 p.m. ET 8/18/23.

Docket Numbers: ER11-4677-026; ER16-1354-016; ER16-1672-022; ER16-1913-014; ER18-772-011; ER18-1771-019; ER18-1978-012.

Applicants: Casa Mesa Wind, LLC, Langdon Renewables, LLC, New Mexico Wind, LLC, River Bend Solar, LLC, Chaves County Solar, LLC, Live Oak Solar, LLC, NextEra Energy Montezuma II Wind, LLC.

Description: Notice of Change in Status of NextEra Energy Montezuma II Wind, LLC, et al.

Filed Date: 7/31/23.

Accession Number: 20230731-5257.

Comment Date: 5 p.m. ET 8/21/23.

Docket Numbers: ER13-738-011; ER11-3097-015; ER10-1186-014; ER20-393-001; ER20-392-001.

Applicants: DTE Stoney Corners Wind Farm, LLC, DTE Garden Wind Farm, LLC, DTE Energy Supply, LLC, DTE Energy Trading, Inc., DTE Electric Company.

Description: Notice of Change in Status of DTE Electric Company, et al.

Filed Date: 7/27/23.

Accession Number: 20230727-5211.

Comment Date: 5 p.m. ET 8/17/23.

Docket Numbers: ER15-2013-016; ER10-2435-023; ER10-2440-015; ER12-2510-013; ER12-2512-013; ER15-2014-010; ER15-2020-010; ER15-2022-009; ER15-2026-009; ER18-2252-005; ER19-481-006.

Applicants: LMBE Project Company LLC, MC Project Company LLC, Susquehanna Nuclear, LLC, Montour, LLC, Talen Montana, LLC, Brunner Island, LLC, H.A. Wagner LLC, Brandon Shores LLC, Dartmouth Power Associates Limited Partnership, Camden Plant Holdings, L.L.C., Talen Energy Marketing, LLC.

Description: Notice of Change in Status of Talen Energy Marketing, LLC, et al.

Filed Date: 7/31/23.

Accession Number: 20230731-5260.

Comment Date: 5 p.m. ET 8/21/23.

Docket Numbers: ER16-1993-002.

Applicants: CleanChoice Energy, Inc.

Description: Notice of Change in Status of CleanChoice Energy, Inc.

Filed Date: 7/31/23.

Accession Number: 20230731-5256.

Comment Date: 5 p.m. ET 8/21/23.

Docket Numbers: ER19-2399-002.

Applicants: Caden Energix Hickory LLC.

Description: Notice of Non-Material Change in Status of Caden Energix Hickory LLC.

Filed Date: 7/31/23.

Accession Number: 20230731-5254.

Comment Date: 5 p.m. ET 8/21/23.

Docket Numbers: ER21-2535-001.

Applicants: Dichotomy Power Maine, LLC.

Description: Notice of Non-Material Change in Status of Dichotomy Power Maine, LLC.

Filed Date: 7/31/23.

Accession Number: 20230731-5251.

Comment Date: 5 p.m. ET 8/21/23.

Docket Numbers: ER22-14-001.

Applicants: Darby Solar, LLC.

Description: Notice of Non-Material Change in Status of Darby Solar, LLC.

Filed Date: 7/31/23.

Accession Number: 20230731-5252.

Comment Date: 5 p.m. ET 8/21/23.

Docket Numbers: ER22-1703-004; ER17-2011-002.

Applicants: Castleton Commodities Merchant Trading L.P., Salem Harbor Power Development LP.

Description: Notice of Change in Status of Salem Harbor Power Development LP, et al.

Filed Date: 7/28/23.

Accession Number: 20230728-5239.

Comment Date: 5 p.m. ET 8/18/23.

Docket Numbers: ER22-1928-002; ER22-1945-002.

Applicants: Bracewell LLP, Powells Creek Farm Solar, LLC, Bracewell LLP, Salt City Solar LLC.

Description: Notice of Change in Status of Salt City Solar LLC, et al.

Filed Date: 7/28/23.

Accession Number: 20230728-5237.

Comment Date: 5 p.m. ET 8/18/23.

Docket Numbers: ER22-2116-003; ER22-2115-003.

Applicants: Timber Road Solar Park LLC, Blue Harvest Solar Park LLC.

Description: Notice of Non-Material Change in Status of Blue Harvest Solar Park LLC, et al.

Filed Date: 7/31/23.

Accession Number: 20230731-5253.

Comment Date: 5 p.m. ET 8/21/23.

Docket Numbers: ER22-2116-004; ER22-2115-004.

Applicants: Timber Road Solar Park LLC, Blue Harvest Solar Park LLC.

Description: Notice of Non-Material Change in Status of Blue Harvest Solar Park LLC, et al.

Filed Date: 7/31/23.

Accession Number: 20230731-5261.

Comment Date: 5 p.m. ET 8/21/23.

Docket Numbers: ER23-884-001.

Applicants: Sonoran Solar Energy, LLC.

Description: Notice of Change in Status of Sonoran Solar Energy, LLC.

Filed Date: 7/31/23.

Accession Number: 20230731-5255.

Comment Date: 5 p.m. ET 8/21/23.

Docket Numbers: ER23-937-001.

Applicants: Chevelon Butte RE LLC.

Description: Notice of Change in Status of Chevelon Butte RE LLC.

Filed Date: 7/28/23.

Accession Number: 20230728-5234.

Comment Date: 5 p.m. ET 8/18/23.

Docket Numbers: ER23-2079-001.

Applicants: Kentucky Utilities Company.

Description: Tariff Amendment: KU Errata to Concurrence to the Amenda JRCA to be effective 8/6/2023.

Filed Date: 8/1/23.

Accession Number: 20230801-5175.

Comment Date: 5 p.m. ET 8/22/23.

Docket Numbers: ER23-2385-000.

Applicants: ConocoPhillips Company.

Description: ConocoPhillips Company submits 2022 WECC Soft Price Cap Justification Filing.

Filed Date: 7/7/23.

Accession Number: 20230707-5272.

Comment Date: 5 p.m. ET 8/22/23.

Docket Numbers: ER23-2533-000.

Applicants: Consolidated Edison Company of New York, Inc.

Description: § 205(d) Rate Filing: PASNY RY1 8-2023 to be effective 8/1/2023.

Filed Date: 8/1/23.

Accession Number: 20230801-5047.

Comment Date: 5 p.m. ET 8/22/23.

Docket Numbers: ER23-2534-000.

Applicants: Midcontinent Independent System Operator, Inc.

Description: § 205(d) Rate Filing: 2023-08-01_SA 3473 Ameren IL-Hickory Point Solar Energy 2nd Rev GIA (J815) to be effective 7/26/2023.

Filed Date: 8/1/23.

Accession Number: 20230801-5057.

Comment Date: 5 p.m. ET 8/22/23.

Docket Numbers: ER23-2535-000.

Applicants: Consolidated Edison Company of New York, Inc.

Description: § 205(d) Rate Filing: WDS RY1 8-2023 to be effective 8/1/2023.

Filed Date: 8/1/23.

Accession Number: 20230801-5061.

Comment Date: 5 p.m. ET 8/22/23.

Docket Numbers: ER23-2536-000.

Applicants: Southwest Power Pool, Inc.

Description: § 205(d) Rate Filing: Revisions to Attachment AE Sections 8.5.9 and 8.6.5 to be effective 10/1/2023.

Filed Date: 8/1/23.

Accession Number: 20230801-5079.

Comment Date: 5 p.m. ET 8/22/23.

Docket Numbers: ER23-2537-000.

Applicants: California Independent System Operator Corporation.

Description: § 205(d) Rate Filing: 2023-08-01 Energy Storage Enhancements—Phase 2 to be effective 12/31/9998.

Filed Date: 8/1/23.

Accession Number: 20230801-5092.

Comment Date: 5 p.m. ET 8/22/23.

Docket Numbers: ER23-2538-000.

Applicants: Tri-State Generation and Transmission Association, Inc.

Description: Tariff Amendment: Notice of Cancellation of Rate Schedule FERC No. 129 to be effective 7/2/2023.

Filed Date: 8/1/23.

Accession Number: 20230801-5112.

Comment Date: 5 p.m. ET 8/22/23.

Docket Numbers: ER23-2539-000.

Applicants: Midcontinent Independent System Operator, Inc., Indianapolis Power & Light Company.

Description: § 205(d) Rate Filing: Midcontinent Independent System Operator, Inc. submits tariff filing per 35.13(a)(2)(iii): 2023-08-01_SA 4145 AES-WVPA MTIA to be effective 8/1/2023.

Filed Date: 8/1/23.

Accession Number: 20230801-5115.

Comment Date: 5 p.m. ET 8/22/23.

Docket Numbers: ER23-2540-000.

Applicants: Energy Prepay II, LLC.

Description: Baseline eTariff Filing: Baseline new to be effective 8/2/2023.

Filed Date: 8/1/23.

Accession Number: 20230801-5148.

Comment Date: 5 p.m. ET 8/22/23.

Docket Numbers: ER23-2541-000.

Applicants: Nevada Cogeneration Associates #2.

Description: Baseline eTariff Filing: Baseline new to be effective 10/1/2023.

Filed Date: 8/1/23.

Accession Number: 20230801-5168.

Comment Date: 5 p.m. ET 8/22/23.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes.For public inquiries and assistance with making filings such as interventions, comments, or requests for rehearing, the public is encouraged to contact OPP at (202) 502-6595 or OPP@ferc.gov.

Dated: August 1, 2023.
Debbie-Anne A. Reese,
Deputy Secretary.

[FR Doc. 2023-16788 Filed 8-4-23; 8:45 am]

BILLING CODE 6717-01-P